NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a meeting of the Advisory Committee on the Medical Uses of Isotopes (ACMUI) on March 16, 2021. A sample of agenda items to be discussed during the public session includes: An overview of fiscal year 2020 medical related events; a discussion on the status of the NRC's patient release evaluation of emerging brachytherapy sources; a discussion on calibration procedures for existing and emerging brachytherapy sources; a discussion on the current ACMUI reporting structure; and an overview on the consequences of radiopharmaceutical extravasation and therapeutic interventions in nuclear medicine. The agenda is subject to change. The current agenda and any updates will be available on the ACMUI's Meetings and Related Documents web page at https://www.nrc.gov/reading-rm/doc-collections/acmui/meetings/2021.html or by emailing Ms. Kellee Jamerson at the contact information below.

DATES: Date and Time for Open Session: Tuesday, March 16, 2021, from 10:00 a.m. to 3:45 p.m. EST.

ADDRESSES:

Date | Webinar information
March 16, 2021 | Link: https://usnrc.webex.com. Event number: 199 910 9533.

Public Participation: Due to the ongoing COVID-19 public health emergency, the meeting will be held as a webinar using Cisco WebEx. Any member of the public who wishes to participate in any portion of this meeting should register in advance of the meeting by accessing the provided link above. Upon successful registration, a confirmation email will be generated providing the telephone bridge line and a link to join the webinar on the day of the meeting. Members of the public should also monitor the NRC's Public Meeting Schedule at https://www.nrc.gov/pmns/mtg for any meeting updates. If there are any questions regarding the meeting, persons should contact Ms. Jamerson using the information below.

FOR FURTHER INFORMATION CONTACT: Ms. Kellee Jamerson, email: Kellee.Jamerson@nrc.gov, telephone: 301-415-7408.

SUPPLEMENTARY INFORMATION:

Purpose: Discuss issues related to 10 CFR part 35 Medical Use of Byproduct Material.

Conduct of the Meeting

The ACMUI Chair, Darlene F. Metter, M.D., will preside over the meeting. Dr. Metter will conduct the meeting in a manner that will facilitate the orderly conduct of business. The following procedures apply to public participation in the meeting:

1. Persons who wish to provide a written statement should submit an electronic copy to Ms. Jamerson using the contact information listed above. All submittals must be received by the close of business on March 10, 2021 and must only pertain to the topics on the agenda.

2. Questions and comments from members of the public will be permitted during the meeting, at the discretion of the ACMUI Chairman.

3. The draft transcript and meeting summary will be available on ACMUI's website https://www.nrc.gov/reading-rm/doc-collections/acmui/meetings/2021.html on or about May 3, 2021.

4. Persons who require special services, such as those for the hearing impaired, should notify Ms. Jamerson of their planned participation.

This meeting will be held in accordance with the Atomic Energy Act of 1954, as amended (primarily Section 161a); the Federal Advisory Committee Act (5 U.S.C. App); and the Commission's regulations in Title 10 of the Code of Federal Regulations, Part 7.

Dated at Rockville, Maryland this 4th day of February, 2021.
For the U.S. Nuclear Regulatory Commission.
Russell E. Chazell,
Federal Advisory Committee Management Officer.

[FR Doc. 2021-02688 Filed 2-9-21; 8:45 am]

BILLING CODE 7590-01-P